DEPARTMENT OF HEALTH AND HUMAN SERVICES

National Institutes of Health

National Cancer Institute; Amended Notice of Meeting

Notice is hereby given of a change in the meeting of the Frederick National Laboratory Advisory Committee to the National Cancer Institute, February 29, 2024, 1:00 p.m. to February 29, 2024, 4:00 p.m., National Cancer Institute—Shady Grove, 9609 Medical Center Drive, Rockville, MD 20850 which was published in the Federal Register on November 7, 2023, FR Doc 2023-24584, 88 FR 76837.

This meeting notice is being amended to change the meeting date from February 29, 2024 to March 11, 2024. The meeting format, agenda and time will stay the same. The meeting can be accessed from the NIH Videocast at the following link: https://videocast.nih.gov/. The meeting is open to the public.

Dated: January 23, 2024.
Melanie J. Pantoja,
Program Analyst, Office of Federal Advisory Committee Policy.

[FR Doc. 2024-01594 Filed 1-25-24; 8:45 am]

BILLING CODE 4140-01-P